DEPARTMENT OF STATE

[Public Notice 8573]

Shipping Coordinating Committee; Notice of Committee Meeting

The Shipping Coordinating Committee (SHC) will conduct an open meeting at 9:30 a.m. on Tuesday February 11, 2014, in Room 5 of the DOT Conference Center which is in the West building, 1200 New Jersey Ave. SE., Washington DC 20590. The primary purpose of the meeting is to prepare for the first Session of the International Maritime Organization's (IMO) Sub-Committee on Human Element, Training and Watchkeeping (HTW) to be held at the IMO Headquarters, United Kingdom, February 17-21, 2014.

The agenda items to be considered include:

—Decisions of other IMO bodies

—Validation of model training courses

—Unlawful practices associated with certificates of competency

—Development of guidance for the implementation of the 2010 Manila Amendments

—Follow-up action to the STCW-F Conference resolutions 6 and 7

—Development of guidelines for wing-in-ground craft

—Role of the human element

—Development of guidance for personnel involved with tug-barge operations

—Revision of guidance for model course development, updating and validation processes

—Development of a mandatory Code for ships operating in polar waters

—Review and modernization of the Global Maritime Distress and Safety System (GMDSS)

—Proposed review of STCW passenger ship specific safety training

—Training in hot work procedures on crude oil tankers

—Develop guidelines for shipowners and seafarers for proper implementation of relevant IMO instruments in relation to the carriage of dangerous goods in packaged form by sea

—Development of a globally-consistent format for the certificate of training and education issued under the STCW Convention

—Development of the International Code of safety for ships using gases or low flash-point fuels (IGF Code)

Members of the public may attend this meeting up to the seating capacity of the room. To facilitate the building security process, and to request reasonable accommodation, those who plan to attend should contact the meeting coordinator, Mr. Davis J. Breyer, by email at davis.j.breyer@uscg.mil, by phone at (202) 372-1445, by fax at (202) 372-8283, or in writing at Commandant (CG-OES-1), U.S. Coast Guard Stop 7509, 2703 Martin Luther King Jr. Ave. SE., Washington, DC 20593-7509 not later than February 4, 2014, 7 days prior to the meeting. Requests made after February 4, 2014 might not be able to be accommodated. Please note that due to security considerations, two valid, government issued photo identifications must be presented to gain entrance to the DOT Conference Center. The building is accessible by taxi and public transportation. However, parking in the vicinity of the building is extremely limited. Additional information regarding this and other IMO SHC public meetings may be found at: www.uscg.mil/imo.

Dated: December 17, 2013.
Marc Zlomek,
Executive Secretary, Shipping Coordinating Committee, Department of State.

[FR Doc. 2013-30673 Filed 12-23-13; 8:45 am]

BILLING CODE 4710-05-P